DEPARTMENT OF THE INTERIOR

Bureau of Indian Affairs

Guidiville Band of Pomo Indians of the Guidiville Indian Rancheria Liquor Control Ordinance

AGENCY: Bureau of Indian Affairs, Interior.

ACTION: Notice.

SUMMARY: This notice publishes the Guidiville Band of Pomo Indians of the Guidiville Indian Rancheria Liquor Control Ordinance. The Ordinance regulates and controls the possession, sale and consumption of liquor within the Guidiville Band of Pomo Indians of the Guidiville Indian Rancheria tribal land. The tribal land is located on trust land. This Ordinance will increase the ability of the tribal government to control the distribution and possession of liquor within their tribal land, and at the same time will provide an important source of revenue and strengthening of the tribal government and the delivery of tribal services.

DATES: This Ordinance is effective June 18, 2008.

FOR FURTHER INFORMATION CONTACT: Fred Doka Jr., Tribal Operations Officer, Pacific Regional Office, 2800 Cottage Way, Sacramento, CA 95825, Telephone (916) 978-6067; or Elizabeth Colliflower, Office of Tribal Services, 1849 C Street, NW., Mail Stop 4513-MIB, Washington, DC 20240; Telephone (202) 513-7627; Fax (202) 501-0679.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Guidiville Band of Pomo Indians of the Guidiville Indian Rancheria Tribal Council adopted this amendment to its Liquor Control Ordinance on March 27, 2008. The purpose of this Ordinance is to govern the sale, possession and distribution of alcohol within the Guidiville Band of Pomo Indians of the Guidiville Indian Rancheria tribal land.

This notice is published in accordance with the authority delegated by the Secretary of the Interior to the Assistant Secretary-Indian Affairs. I certify that the Guidiville Band of Pomo Indians adopted this Liquor Control Ordinance on March 27, 2008.

Dated: June 9, 2008.
George T. Skibine,
Acting Deputy Assistant Secretary for Policy and Economic Development.

The Guidiville Band of Pomo Indians of the Guidiville Indian Rancheria Liquor Control Ordinance reads as follows:

Ordinance of the Guidiville Band of Pomo Indians of the Guidiville Indian Rancheria

Ordinance Name: Guidiville Indian Rancheria Liquor Control Ordinance.

Ordinance Number: 05-02, as amended.

Date Approved: November 21, 2005.

Date Amended: March 27, 2008.

Whereas, Guidiville Indian Rancheria is a federally recognized Tribe as a result of the Scotts Valley et al. v. the United States case of September 6, 1991 (NO. C-86-3660-VRW); and,

Whereas, The Tribal Council of the Guidiville Indian Rancheria is the duly authorized governing body of the Tribe to fully exercise governmental responsibilities, and is empowered to make Tribal policy, pass Tribal codes and ordinances, approve contracts, and carry out Tribal business under the authority of the Constitution of the Guidiville Indian Rancheria; and,

Whereas, The Tribal Council has determined that an ordinance to regulate the possession and sale of liquor on lands, or future lands, and/or areas subject to the jurisdiction of the Tribe and to permit alcohol sales by business entities, corporations, tribally owned and operated enterprises, and at tribally approved special events, is in the best interests of the Tribe, its members and the general public; and

Whereas, The Guidiville Band of Pomo Indians Liquor Control Ordinance is in conformity with the laws of the State of California as required by 18 U.S.C. 1161, and with all applicable federal laws and has been prepared and reviewed by staff, legal counsel and the Tribal Council for consistency with federal law and other tribal laws and regulations.

Therefore be it resolved, that the Tribal Council representing the Guidiville Band of Pomo Indians of the Guidiville Indian Rancheria hereby adopts the following:

Article 1: Name: This statute shall be known as the Guidiville Indian Rancheria Liquor Control Ordinance.

Article 2: Authority: This statute is enacted pursuant to the general authority of the Guidiville Tribal Council and the Act of August 15, 1953, (Pub. L. 83-277, 67 Stat. 588, 18 U.S.C. 1161).

Article 3: Purpose: The purpose of this statute is to regulate and control the possession and sale of liquor on lands and future lands that are within the jurisdiction of the Guidiville Band of Pomo Indians Tribal government, and to permit alcohol sales by tribally owned and operated enterprises, and at tribally approved special events, for the purpose of the economic development of the Tribe. The enactment of a tribal statute governing liquor possession and sales on lands within the jurisdiction of the Guidiville Tribal government will increase the ability of the Tribal Government to control liquor distribution and possession, and will provide an important source of revenue for the continued operations and strengthening of the tribal government, the economic viability of tribal enterprises, and the delivery of tribal government services. This Liquor Control Ordinance is in conformity with the laws of the State of California as required by 18 U.S.C. 1161, and with all applicable federal laws.

Article 4: Effective Date: This statute shall be effective as of the date of its publication in the Federal Register.

Article 5: Possession of Alcohol: The introduction or possession of alcoholic beverages shall be lawful on lands within the exterior boundaries of the Guidiville Indian Rancheria and/or general governmental jurisdiction of the Tribe, provided that such sales are in conformity with the laws of the State of California governing possession of alcoholic beverages.

Article 6: Sales of Alcohol:

(a) The sale of alcoholic beverages by business enterprises owned by and subject to the control of the Tribe shall be lawful within the exterior boundaries of the Guidiville Indian Rancheria and/or general governmental jurisdiction of the Tribe; provided that such sales are in conformity with the laws of the State of California governing the sale of alcoholic beverages.

(b) The sale of alcoholic beverages by the drink at special events authorized by the Tribe shall be lawful within the exterior boundaries of the Guidiville Indian Rancheria and/or general governmental jurisdiction of the Tribe; provided that such sales are in conformity with the laws of the State of California governing special event sales and with prior approval by the Tribe.

Article 7: Age Limits: The drinking age for individuals within the exterior boundaries of the Guidiville Indian Rancheria and/or general governmental jurisdiction of the Tribe shall be the same as that of the State of California, which is currently 21 years. No person under the age of 21 years shall purchase, possess or consume any alcoholic beverage. At such time, if any, as California Business and Profession case 25658, which sets the drinking age for the State of California, is repealed or amended to raise or lower the drinking age within California, this Article shall automatically become null and void, and the Tribal Council shall be empowered to amend this Article from time to time to match the age limit imposed by California State law, such amendment to become effective upon publication in the Federal Register by the Secretary of the Interior.

Article 8: Civil Penalties: The Tribe, through the authority of its Tribal Council, shall have the authority to enforce this statute by confiscating or causing to be confiscated any liquor sold, possessed or introduced in violation hereof. The Tribal Council shall be empowered to sell such confiscated liquor for the benefit of the Tribe and to develop and approve such regulation as may become necessary for enforcement of this ordinance.

Article 9: Prior Inconsistent Enactments: Any prior tribal laws, resolutions, or statutes governing the control, possession or sale of liquor on lands and future lands that are within the jurisdiction of the Guidiville Band of Pomo Indians Tribal government, and to permit alcohol sales by tribally owned and operated enterprises, and at tribally approved special events which are inconsistent with this statute, are hereby repealed to the extent they are inconsistent with this statute.

Article 10: Sovereign Immunity: Nothing contained in this statute is intended to, nor does in any way, limit, alter, restrict, or waive the sovereign immunity of the Tribe or any of its agencies from un-consented suit or action of any kind.

Article 11: Severability: If any provision of this statute is found by any agency or court of competent jurisdiction to be unenforceable, the remaining provisions shall be unaffected thereby.

Article 12: Amendment: This statute may be amended by a majority vote of the Tribal Council of the Tribe at a duly noticed Tribal Council meeting, such amendment to become effective upon publication in the Federal Register by the Secretary of the Interior.

Certification

This is to certify that this Ordinance #05-02 was amended at a special meeting of the Guidiville Indian Rancheria Tribal Council on March 27, 2008, at which a quorum was present and that this Ordinance was adopted by a vote of 3 For, 0 Opposed, 0 Abstentions. This resolution has not been rescinded in any way.

Dated: March 27, 2008.
Merlene Sanchez,
Chairperson.

Dated: March 27, 2008.
Denise Dawson.

[FR Doc. E8-13725 Filed 6-17-08; 8:45 am]

BILLING CODE 4310-4J-P